DEPARTMENT OF HEALTH AND HUMAN SERVICES

Administration for Community Living

Agency Information Collection Activities; Submission for OMB Review; Comment Request; Extension of Certification of Maintenance of Effort for the Title III and the Certification of Long-Term Care Ombudsman Program Expenditures

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by July 3, 2014.

ADDRESSES: Submit written comments on the collection of information by fax 202.395.5806 or by email to OIRA_submission@omb.eop.gov, Attn: OMB Desk Officer for ACL.

FOR FURTHER INFORMATION CONTACT: Greg Case at 202-357-3442 or email: Greg.Case@acl.hhs.gov.

SUPPLEMENTARY INFORMATION: In compliance with 44 U.S.C. 3507, ACL has submitted the following proposed collection of information to OMB for review and clearance. ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology. The Certification on Maintenance of Effort for the Title III and Certification of Long-Term Care Ombudsman Program Expenditures provides statutorily required information regarding state's contribution to programs funded under the Older American's Act and conformance with legislative requirements, pertinent Federal regulations and other applicable instructions and guidelines issued by the Administration on Aging. This information will be used for Federal oversight of Title III Programs and the Title VII Ombudsman Program.

ACL estimates the burden of this collection of information as follows: 56 State Agencies on Aging respond annually with an average burden of one half (1/2) hour per State agency or a total of twenty-eight hours for all state agencies annually. In the Federal Register of March 21, 2014 (Vol. 79 No. 55 Page 15751) the agency requested comments on the proposed collection of information. No comments were received.

Dated: May 29, 2014.
Kathy Greenlee,
Administrator and Assistant Secretary for Aging.

[FR Doc. 2014-12803 Filed 6-2-14; 8:45 am]

BILLING CODE 4154-01-P